DEPARTMENT OF COMMERCE

National Oceanic and Atmospheric Administration

[RTID 0648-XE894]

Endangered and Threatened Species; Take of Anadromous Fish

AGENCY: National Marine Fisheries Service (NMFS), National Oceanic and Atmospheric Administration (NOAA), Department of Commerce.

ACTION: Notice; availability of a Proposed Evaluation and Pending Determination for public comment.

SUMMARY: Notice is hereby given that NMFS has received plans for twelve hatchery programs rearing and releasing Chinook salmon in the Nooksack River basin and Strait of Georgia. The plans describe hatchery programs operated by the Lummi Nation and Washington Department of Fish and Wildlife (WDFW) in collaboration with the Nooksack Indian Tribe as co-managers. This document serves to notify the public of the availability and opportunity to comment on a Proposed Evaluation and Determination Documents (PEPD) on the proposed hatchery programs.

DATES: Comments must be received at the appropriate address (see ADDRESSES) no later than 5 p.m. Pacific time on June 11, 2025. Comments received after this date may not be considered.

ADDRESSES: Comments may be submitted by email. The mailbox address for providing email comments is: Hatcheries.Public.Comment@noaa.gov. Include in the subject line of the email comment the following identifier: Comments on Nooksack River hatchery programs. The document available for public comment is available on the internet at https://www.fisheries.noaa.gov/action/twelve-hatchery-and-genetic-management-plans-nooksack-river-basin-and-georgia-strait-salmon.

FOR FURTHER INFORMATION CONTACT: Morgan Robinson at (253) 307-2670 or by email at morgan.robinson@noaa.gov.

SUPPLEMENTARY INFORMATION:

ESA-Listed Species Covered in This Notice

• Puget Sound Chinook salmon (Oncorhynchus tshawytscha): threatened, naturally and artificially propagated;

• Puget Sound Steelhead (O. mykiss): threatened, naturally and artificially propagated.

Background

The term “take” is defined under the Endangered Species Act (ESA) to mean harass, harm, pursue, hunt, shoot, wound, kill, trap, capture, or collect, or to attempt to engage in any such conduct. The ESA prohibits the take of endangered salmonids and, pursuant to ESA section 4(d), ESA regulations can be extended to prohibit the take of threatened salmonids. However, NMFS may make exceptions to the take prohibitions for hatchery programs that are approved by NMFS under the limits on the prohibitions outlined in 50 CFR 223.203(b). The operators, Lummi Nation and WDFW, collaborating with tribal co-manager Nooksack Indian Tribe, have submitted twelve HGMPs to NMFS pursuant to NMFS' limit six of the 4(d) Rule of the ESA for hatchery activities in the Nooksack River basin and Strait of Georgia, Washington. Chinook, coho, and chum salmon hatchery programs will be operated at Skookum Creek, Kendall Creek, Samish, Glenwood Springs, Whatcom Creek, and Lummi Bay hatcheries.

The hatchery programs are designed to contribute to the survival and recovery of Nooksack River Chinook salmon and provide salmon for harvest augmentation purposes. These hatchery programs are intended to contribute to fulfilling federal tribal treaty rights affirmed in U.S. v. Washington (1974) by enhancing future fishing opportunities for Chinook, coho, and chum salmon. Included in the hatchery plans are research and monitoring activities to study the effect of the programs on the recovery of Puget Sound Chinook salmon and steelhead.

Authority: 16 U.S.C. 1531 et seq.; 16 U.S.C. 742a et seq.

Dated: May 7, 2025.
Kimberly Damon-Randall,
Director, Office of Protected Resources, National Marine Fisheries Service.

[FR Doc. 2025-08306 Filed 5-9-25; 8:45 am]

BILLING CODE 3510-22-P